DEPARTMENT OF ENERGY

Federal Energy Regulatory Commission

Combined Notice of Filings #1

Take notice that the Commission received the following exempt wholesale generator filings:

Docket Numbers: EG24-38-000.

Applicants: River Fork Solar, LLC.

Description: River Fork Solar, LLC submits Notice of Self-Certification of Exempt Wholesale Generator Status.

Filed Date: 11/27/23.

Accession Number: 20231127-5124.

Comment Date: 5 p.m. ET 12/18/23.

Take notice that the Commission received the following electric rate filings:

Docket Numbers: ER22-2388-004.

Applicants: Mississippi Power Company.

Description: Compliance filing: MRA 30 Compliance Filing Associated with Rate Case Settlement to be effective 9/14/2022.

Filed Date: 11/27/23.

Accession Number: 20231127-5087.

Comment Date: 5 p.m. ET 12/18/23.

Docket Numbers: ER23-1775-001.

Applicants: Alabama Power Company, Georgia Power Company, Mississippi Power Company.

Description: Compliance filing: Alabama Power Company submits tariff filing per 35: OATT Attachment O Order No. 676-J Second Compliance Filing to be effective 2/1/2024.

Filed Date: 11/27/23.

Accession Number: 20231127-5098.

Comment Date: 5 p.m. ET 12/18/23.

Docket Numbers: ER23-1789-000; ER23-1791-000; ER23-1792-000; ER23-1793-000; ER23-1795-000; ER23-1797-000; ER23-1798-000; ER23-1799-000; ER23-1800-000; ER23-1790-000; ER23-1796-000; ER23-1794-000.

Applicants: Goal Line, L.P., Marina Energy, LLC, EnergyMark, LLC, Twiggs County Solar, LLC, Three Peaks Power, LLC, Sweetwater Solar, LLC, MS Solar 3, LLC, Grand View PV Solar Two LLC, GA Solar 3, LLC, FL Solar 4, LLC, FL Solar 1, LLC, AZ Solar 1, LLC.

Description: Supplement to May 1, 2023, AZ Solar 1, LLC submits tariff filing per 35: Tariff Revisions to be effective 5/2/2023.

Filed Date: 11/20/23.

Accession Number: 20231120-5225.

Comment Date: 5 p.m. ET 12/11/23.

Docket Numbers: ER24-477-000.

Applicants: PJM Interconnection, L.L.C.

Description: PJM Interconnection L.L.C submits a Limited, Prospective Waiver of one Provision of Schedule 6, section 1.5.7(f) of the Operating Agreement with Expedited Action.

Filed Date: 11/21/23.

Accession Number: 20231121-5233.

Comment Date: 5 p.m. ET 12/1/23.

Docket Numbers: ER24-479-000.

Applicants: PJM Interconnection, L.L.C.

Description: § 205(d) Rate Filing: Amendment to ISA, Service Agreement No. 6799; Queue No. AD1-013 to be effective 1/29/2024.

Filed Date: 11/27/23.

Accession Number: 20231127-5016.

Comment Date: 5 p.m. ET 12/18/23.

Docket Numbers: ER24-480-000.

Applicants: Alabama Power Company, Georgia Power Company, Mississippi Power Company.

Description: § 205(d) Rate Filing: Alabama Power Company submits tariff filing per 35.13(a)(2)(iii: Minkar Energy Project (Minkar Solar) LGIA Filing to be effective 11/10/2023.

Filed Date: 11/27/23.

Accession Number: 20231127-5096.

Comment Date: 5 p.m. ET 12/18/23.

Docket Numbers: ER24-481-000.

Applicants: PJM Interconnection, L.L.C.

Description: § 205(d) Rate Filing: Amendment to Service Agreements re: FirstEnergy Reorganization to be effective 12/31/9998.

Filed Date: 11/27/23.

Accession Number: 20231127-5097.

Comment Date: 5 p.m. ET 12/18/23.

Docket Numbers: ER24-482-000.

Applicants: River Fork Solar, LLC.

Description: Baseline eTariff Filing: Application for Market-Based Rate Authority to be effective 1/27/2024.

Filed Date: 11/27/23.

Accession Number: 20231127-5106.

Comment Date: 5 p.m. ET 12/18/23.

Docket Numbers: ER24-483-000.

Applicants: Duke Energy Florida, LLC.

Description: § 205(d) Rate Filing: DEF-FMPA NITSA SA No. 148 to be effective 1/1/2024.

Filed Date: 11/27/23.

Accession Number: 20231127-5109.

Comment Date: 5 p.m. ET 12/18/23.

Docket Numbers: ER24-484-000.

Applicants: ISO New England Inc., New England Power Pool Participants Committee.

Description: § 205(d) Rate Filing: ISO New England Inc. submits tariff filing per 35.13(a)(2)(iii: Revisions to Modify the FCM Qualification Rules for DECR to be effective 3/1/2024.

Filed Date: 11/27/23.

Accession Number: 20231127-5127.

Comment Date: 5 p.m. ET 12/18/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 27, 2023.
Debbie-Anne A. Reese,
Deputy Secretary.

[FR Doc. 2023-26465 Filed 11-30-23; 8:45 am]

BILLING CODE 6717-01-P